NUCLEAR REGULATORY COMMISSION

[NRC-2018-0232]

Environmental Dosimetry-Performance Specifications, Testing, and Data Analysis

AGENCY: Nuclear Regulatory Commission.

ACTION: Regulatory guide; issuance.

SUMMARY: The U.S. Nuclear Regulatory Commission (NRC) is issuing Revision 2 to Regulatory Guide (RG) 4.13, “Environmental Dosimetry-Performance Specifications, Testing, and Data Analysis.” Revision 2 provides updated guidance that the NRC staff considers acceptable for performing surveys and evaluations of public dose in the unrestricted area and the controlled area of a licensed facility from direct radiation using environmental dosimetry. The RG endorses the American National Standards Institute/Health Physics Society (ANSI/HPS) N13.37-2014, “Environmental Dosimetry-Criteria for System Design and Implementation.”

DATES: Revision 2 to RG 4.13 is available on June 21, 2019.

ADDRESSES: Please refer to Docket ID NRC-2018-0232 when contacting the NRC about the availability of information regarding this document. You may obtain publicly-available information related to this document, using the following methods:

• Federal Rulemaking Website: Go to http://www.regulations.gov and search for Docket ID NRC-2018-0232. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 to Regulatory Guide 4.13 and the regulatory analysis may be found in ADAMS under Accession Nos. ML19044A595 and ML18087A167 respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Steven Garry, Office of Nuclear Reactor Regulation, telephone: 301-415-2766, email: Steven.Garry@nrc.gov, and Harriet Karagiannis, Office of Nuclear Regulatory Research, telephone: 301-415-2493, email: Harriet.Karagiannis@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 of RG 4.13 was issued with a temporary identification of Draft Regulatory Guide, DG-4019, to provide updated guidance that the NRC staff considers acceptable for performing surveys and evaluations of public dose in the unrestricted area and the controlled area of a licensed facility from direct radiation using environmental dosimetry.

This revision also provides updated NRC guidance on an acceptable dosimetry program by endorsing ANSI/HPS N13.37-2014. The 2014 ANSI/HPS standard provides up-to-date environmental dosimetry system design criteria and dosimeter laboratory test protocols and data-analysis methods suitable to assess potential facility-related radiation doses.

II. Additional Information

The NRC published a notice of the availability of DG-4019 in the Federal Register on October 17, 2018 (83 FR 52576) for a 60-day public comment period. The public comment period closed on December 17, 2018. Public comments on DG-4019 and the staff responses to the public comments are available under ADAMS under Accession No. ML19044A594.

III. Congressional Review Act

This RG is a rule as defined in the Congressional Review Act (5 U.S.C. 801-808). However, the Office of Management and Budget has not found it to be a major rule as defined in the Congressional Review Act.

IV. Backfitting and Issue Finality

This RG provides guidance on establishing and conducting an environmental dosimetry program that the NRC staff considers acceptable for monitoring direct radiation released into the unrestricted area and the controlled area of a licensed facility. The NRC regards these requirements as constituting information collection and reporting requirements. The NRC has long taken the position that information collection and reporting requirements are not subject to the NRC's backfitting and issue finality regulations in title 10 of the Code of Federal Regulations (CFR) 50.109, 10 CFR 70.76, 10 CFR 72.62, 10 CFR 76.76 and 10 CFR part 52 (e.g., “Material Control and Accounting Methods,” December 23, 2002 (67 FR 78130); and “Regulatory Improvements to the Nuclear Materials Management and Safeguards System,” June 9, 2008 (73 FR 32453)). Therefore, the NRC has determined that its backfitting and issue finality regulations do not apply to this RG because the RG does not include any provisions within the scope of matters covered by the backfitting provisions in 10 CFR parts 50, 70, 72, or 76, or the issue finality provisions of 10 CFR part 52.

Dated at Rockville, Maryland, this 18th day of June 2019.
For the Nuclear Regulatory Commission.
Thomas H. Boyce,
Chief, Regulatory Guidance and Generic Issues Branch, Division of Engineering, Office of Nuclear Regulatory Research.

[FR Doc. 2019-13277 Filed 6-20-19; 8:45 am]

BILLING CODE 7590-01-P